DEPARTMENT OF AGRICULTURE

Rural Utilities Service

Rural Broadband Access Loans and Loan Guarantees Program

AGENCY: Rural Utilities Service, USDA.

ACTION: Notice of application deadline.

SUMMARY: The Rural Utilities Service (RUS) announces funding available for the Rural Broadband Access Loan and Loan Guarantee program. For FY 2003, no less than $1.455 billion in loans is available, $1.295 billion for direct cost-of-money loans, $80 million for direct 4-percent loans, and $80 million for loan guarantees.

DATES: All returned applications from the Broadband Pilot Program must be delivered to RUS or bear postmark no later than March 3, 2003 in order to have a priority consideration in FY 2003. All applications must be delivered to RUS or bear postmark no later than January 31, 2003, to be considered for funding from their applicable state's allocation. All other applications must be delivered to RUS or bear postmark no later than July 31, 2003, to be considered for funding in Fiscal Year 2003.

FOR FURTHER INFORMATION CONTACT: Roberta D. Purcell, Assistant Administrator, Telecommunications Program, Rural Utilities Service, STOP 1590, 1400 Independence Avenue, SW., Washington, DC 20250-1590, Telephone (202) 720-9554, Facsimile (202) 720-0810.

SUPPLEMENTARY INFORMATION:

General Information

During FY 2003, no less than $1.455 billion will be made available for loans and loan guarantees for the construction, improvement, and acquisition of facilities and equipment for broadband service in eligible rural communities. Of the total loan funds available, $1.295 billion will be available for direct cost-of-money loans, $80 million for 4-percent direct loans, and $80 million for loan guarantees. The Rural Broadband Access Loan and Loan Guarantee Program is authorized by the Rural Electrification Act (7 U.S.C. 601) (the Act), as added by the Farm Security and Rural Investment Act of 2002, Pub. L. 101-171.

Priority will be given to applications previously received by RUS under its Broadband Pilot Program, described at 67 FR 45079.

Applications must be submitted in accordance with 7 CFR part 1738. This part and an application guide to assist in the preparation of applications are available in the Internet at: http://www.usda.gov/rus/telecom. Application guides may also be requested from RUS by contacting the appropriate agency contact:

Agency Contacts

For application information, contact the following individual: Deborah Jackson, Telecommunications Program, RUS/USDA, Room 2919, Stop 1541, 1400 Independence Avenue, SW., Washington, DC, (202) 720-8427.

Minimum and Maximum Loan Amounts

Loans and loan guarantees under this authority will not be made for less than $100,000. Maximum loan amounts apply only to the direct 4-percent loan program. The maximum amount available for any one applicant for a direct 4-percent loan is $5,000,000.

Minimum Rate of Data Transmission Criteria

The Secretary of Agriculture determines what qualifies as broadband service for the purpose of determining eligibility for financial assistance under the Rural Broadband Access Loan and Loan Guarantee Program. During fiscal year 2003 (and thereafter until further notice), to qualify as broadband service, the minimum rate-of-data transmission shall be 200 kilobits/second in the customer's connection to the network, both from the provider to the customer (downstream) and from the customer to the provider (upstream).

State Allocations

Due to the date of publication of the regulation and the regulatory deadline of January 31 for applications to be considered under the state allocation, applications submitted pursuant to this notice for fiscal year 2003 will be funded from the national reserve.

The Act requires RUS, from amounts made available each fiscal year, to establish a national reserve for loans and loan guarantees to eligible entities in states and to allocate amounts in the reserve to each state for each fiscal year. The Act further sets forth the method of allocation as follows:

“The amount of an allocation made to a State for a fiscal year * * * shall bear the same ratio to the amount of allocations made for all States for the fiscal year as the number of communities with a population of 2,500 inhabitants or less in the State bears to the number of communities with a population of 2,500 inhabitants or less in all States, as determined on the basis of the latest available census”.

The following table shows the number of communities with 2,500 inhabitants or less (from the 2000 U.S. Census data), the percent in each state of such communities in relation to the total of all states, and the dollar amount of loan and loan guarantee funds available to each state:

State | Number of communities w/2,500 or less | Percent of national total | Dollars allocated ($ mil)
Alabama | 312 | 1.94 | 28,214,611
Alaska | 225 | 1.40 | 20,347,075
Arizona | 125 | 0.78 | 11,303,931
Arkansas | 374 | 2.32 | 33,821,361
California | 296 | 1.84 | 26,767,708
Colorado | 212 | 1.32 | 19,171,467
Connecticut | 40 | 0.25 | 3,617,258
Delaware | 51 | 0.32 | 4,612,004
Florida | 307 | 1.91 | 27,762,454
Georgia | 380 | 2.36 | 34,363,950
Hawaii | 67 | 0.42 | 6,058,907
Idaho | 154 | 0.96 | 13,926,443
Illinois | 856 | 5.32 | 77,409,318
Indiana | 418 | 2.60 | 37,800,345
Iowa | 826 | 5.13 | 74,696,375
Kansas | 527 | 3.27 | 47,657,372
Kentucky | 324 | 2.01 | 29,299,789
Louisiana | 237 | 1.47 | 21,432,253
Maine | 53 | 0.33 | 4,792,867
Maryland | 148 | 0.92 | 13,383,854
Massachusetts | 65 | 0.40 | 5,878,044
Michigan | 355 | 2.21 | 32,103,163
Minnesota | 659 | 4.09 | 59,594,323
Mississippi | 228 | 1.42 | 20,618,370
Missouri | 758 | 4.71 | 68,547,036
Montana | 239 | 1.48 | 21,613,116
Nebraska | 487 | 3.03 | 44,040,114
Nevada | 27 | 0.17 | 2,441,649
New Hampshire | 24 | 0.15 | 2,170,355
New Jersey | 123 | 0.76 | 11,123,068
New Mexico | 168 | 1.04 | 15,192,483
New York | 528 | 3.28 | 47,747,804
North Carolina | 428 | 2.66 | 38,704,659
North Dakota | 356 | 2.21 | 32,193,595
Ohio | 627 | 3.89 | 56,700,517
Oklahoma | 565 | 3.51 | 51,093,767
Oregon | 186 | 1.16 | 16,820,249
Pennsylvania | 866 | 5.38 | 78,313,633
Rhode Island | 5 | 0.03 | 452,157
South Carolina | 221 | 1.37 | 19,985,350
South Dakota | 321 | 1.99 | 29,028,494
Tennessee | 228 | 1.42 | 20,618,370
Texas | 960 | 5.96 | 86,814,189
Utah | 185 | 1.15 | 16,729,818
Vermont | 47 | 0.29 | 4,250,278
Virginia | 207 | 1.29 | 18,719,309
Washington | 276 | 1.71 | 24,959,079
West Virginia | 219 | 1.36 | 19,804,487
Wisconsin | 429 | 2.66 | 38,795,091
Wyoming | 171 | 1.06 | 15,463,777
Puerto Rico | 113 | 0.70 | 10,218,753
Guam | 19 | 0.12 | 1,718,197
Am. Samoa | 68 | 0.42 | 6,149,338
Commonwealth of Northern Mariana Islands | 8 | 0.05 | 723,452
U.S. Virgin Islands | 1 | 0.01 | 90,431
Total | 6,099 | 100.00 | 1,455,855,856

4-Percent Direct Loans

An applicant will be eligible for a direct 4-percent loan if (1) the community being served has a population of less than 2,500, and is not currently receiving broadband service as defined at § 1738.11(b)(1), (2) the per capita income in the county being served as a percent of national per capita income, is not more than 55 percent of the national per capita income, as determined by the Bureau of Economic Analysis, U.S. Department of Commerce, at http://www.bea.doc.gov/bea/regional/reis, and (3) the population density, calculated as the total number of persons in the service area divided by the square miles of the service area is not more than 10 persons per square mile.

Applications Submitted Under the Broadband Pilot Program

Each application remaining unfunded from the Broadband Pilot Program will be returned to the applicant. The applicant will be given 30 days from the date of publication of final rule 7 CFR 1738, Rural Broadband Access Loans and Loan Guarantees, in the Federal Register to resubmit a completed application.

Applications submitted within the 30-day time frame, that are economically and technically feasible, as determined by RUS and as set forth in RUS Bulletin 1738-1 will be given priority for funding as set forth in § 1738.14.

Dated: January 27, 2003.
Hilda Gay Legg,
Administrator, Rural Utilities Service.

[FR Doc. 03-2200 Filed 1-29-03; 8:45 am]

BILLING CODE 3410-15-P